SURFACE TRANSPORTATION BOARD

[Docket No. FD 36190]

Terminal Railway Alabama State Docks—Temporary Trackage Rights Exemption—Norfolk Southern Railway Company

Terminal Railway Alabama State Docks (TASD), a Class III switching and terminal carrier, has filed a verified notice of exemption under 49 CFR 1180.2(d)(8) for its acquisition of temporary overhead trackage rights from Norfolk Southern Railway Company (NSR) over NSR's 3-B South District rail line between the connection with TASD at approximately milepost 146.9 MB at CN Crossing and the connection with TASD at approximately milepost 144.0 MB at Terminal Junction, a distance of approximately 2.9 miles in Mobile, Ala. (the Line).

TASD states that, pursuant to a written Detour and Temporary Trackage Rights Agreement (Agreement) dated April 18, 2018,¹ NSR has agreed to grant the specified temporary overhead trackage rights to TASD. TASD has concurrently filed a petition for waiver of the 30-day period under 49 CFR 1180.4(g) to allow the proposed temporary trackage rights to become effective immediately.² TASD states that it intends to consummate the transaction immediately upon issuance of the Board's decision on its petition for waiver, if waiver is granted, or upon the effective date of the notice, May 27, 2018. The sole purpose of the trackage rights is to accommodate emergency detour operations by TASD over the Line while repairs are made to TASD's Viaduct Bridge. The temporary trackage rights will expire on October 18, 2018.

¹ A copy of the Agreement was filed with the notice.

² The petition for waiver will be addressed in a separate decision.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption.

An original and 10 copies of all pleadings, referring to Docket No. FD 36190, must be filed with the Surface Transportation Board, 395 E Street SW, Washington, DC 20423-0001. In addition, a copy of each pleading must be served on applicant's representative, Thomas J. Litwiler, Fletcher & Sippel LLC, 29 North Wacker Drive, Suite 920, Chicago, IL 60606-2832.

According to TASD, this action is categorically excluded from environmental review under 49 CFR 1105.6(c) and historic reporting under 49 CFR 1105.8(b)(3).

Board decisions and notices are available on our website at “WWW.STB.GOV.”

Decided: May 8, 2018.
By the Board, Scott M. Zimmerman, Acting Director, Office of Proceedings.
Jeffrey Herzig,
Clearance Clerk.

[FR Doc. 2018-10115 Filed 5-10-18; 8:45 am]

BILLING CODE 4915-01-P